SMALL BUSINESS ADMINISTRATION

[License No. 09/09-0479]

Avante Mezzanine Partners SBIC II, L.P.; Notice Seeking Exemption Under Section 312 of the Small Business Investment Act, Conflicts of Interest

Notice is hereby given that Avante Mezzanine Partners SBIC II, L.P., 11150 Santa Monica Boulevard, Suite 1470, Los Angeles, CA 90025, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107.730). Avante Mezzanine Partners SBIC II, L.P. proposes to provide debt and equity financings to Global ID Group, Inc., 500 N. 4th Street, Suite 204, Fairfield, Iowa 52556.

The financing is brought within the purview of § 107.730(a) of the Regulations because Avante Mezzanine Partners SBIC, L.P (“Avante”) and Avante Mezzanine Partners SBIC II, L.P. are Associates. Avante owns more than ten percent of Global ID Group, Inc. and therefore this transaction is considered Financing an Associate requiring prior SBA approval. This transaction will also discharge an obligation of Avante.

Notice is hereby given that any interested person may submit written comments on this transaction within fifteen days of the date of this publication to the Associate Administrator, Office of Investment and Innovation, U.S. Small Business Administration, 409 Third Street SW., Washington, DC 20416.

Mark L. Walsh,
Associate Administrator for Office of Investment and Innovation.

[FR Doc. 2016-24035 Filed 10-4-16; 8:45 am]

BILLING CODE 8025-01-P